DEPARTMENT OF VETERANS AFFAIRS

[OMB Control No. 2900-0104]

Agency Information Collection (Report of Accidental Injury in Support of Claim for Compensation or Pension) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before September 26, 2008.

ADDRESSES: Submit written comments on the collection of information through http://www.Regulations.gov or to VA's OMB Desk Officer, OMB Human Resources and Housing Branch, New Executive Office Building, Room 10235, Washington, DC 20503 (202) 395-7316. Please refer to “OMB Control No. 2900-0104” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0104.”

SUPPLEMENTARY INFORMATION: Title: Report of Accidental Injury in Support of Claim for Compensation or Pension, VA Form 21-4176.

OMB Control Number: 2900-0104.

Type of Review: Extension of a currently approved collection.

Abstract: The data collected on VA Form 21-4176 is used to determine a veteran's eligibility for disability benefits based on an accidental injury that he or she incurred while in the line of duty and by individuals who witness the accidental injury. VA uses the information collected to determine whether the injury was the result of a willful misconduct by the veteran.

An agency may not conduct or sponsor, and a person is not required to respond to a collection of information unless it displays a currently valid OMB control number. The Federal Register Notice with a 60-day comment period soliciting comments on this collection of information was published on June 3, 2008, at pages 31738—31739.

Affected Public: Individuals or households.

Estimated Annual Burden: 2,204.

Estimated Average Burden per Respondent: 30 minutes.

Frequency of Response: On occasion.

Estimated Number of Respondents: 4,408.

Dated: August 21, 2008.
By direction of the Secretary.
Denise McLamb,
Program Analyst, Records Management Service.

[FR Doc. E8-19905 Filed 8-26-08; 8:45 am]

BILLING CODE 8320-01-P